DEPARTMENT OF THE INTERIOR

Bureau of Land Management

[16X LLAK980600.L1820000.XX0000.LXSIARAC0000]

Notice of Public Meeting, BLM Alaska Resource Advisory Council

AGENCY: Bureau of Land Management, Alaska State Office, Interior.

ACTION: Notice of public meeting.

SUMMARY: In accordance with the Federal Land Policy and Management Act of 1976 as amended (FLPMA) and the Federal Advisory Committee Act of 1972 (FACA), the Bureau of Land Management (BLM) Alaska Resource Advisory Council (RAC) will meet as indicated below.

DATES: The meeting will be held December 1 and 2, 2015, at the Office of Aviation Services located at 4405 Lear Court, Anchorage, Alaska 99502-1032. The meeting starts at 8:30 a.m. each day in training Room #109. The council will accept comments from the public on Tuesday, December 1, from 3:00-4:00 p.m.

FOR FURTHER INFORMATION CONTACT: Thom Jennings, RAC Coordinator, BLM Alaska State Office, 222 W. 7th Avenue #13, Anchorage, AK 99513; tjenning@blm.gov; 907-271-3335. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The 15-member council advises the Secretary of the Interior, through the BLM, on a variety of planning and management issues associated with public land management in Alaska. At this meeting, topics planned for discussion will include: Regional Mitigation Strategy for the Northeast National Petroleum Reserve in Alaska (NPR-A), placer mining reclamation at Jack Wade Creek, update on land transfer program, update on permitted oil production in the NPR-A, and other topics of interest to the RAC. A full agenda will be posted to the BLM Alaska RAC Web site (www.blm.gov/ak/rac) by November 20, 2015.

All meetings are open to the public. During the public comment period, depending upon the number of people wishing to comment, time for individual oral comments may be limited. Please be prepared to submit written comments if necessary. Before including your address, phone number, email address, or other personal identifying information in your comment, you should be aware that your entire comment—including your personal identifying information—may be made publicly available at any time. While you can ask us in your comment to withhold your personal identifying information from public review, we cannot guarantee that we will be able to do so. Individuals who plan to attend and need special assistance, such as sign language interpretation, transportation, or other reasonable accommodations, should contact the BLM RAC Coordinator listed above.

Dated: November 9, 2015.
Bud C. Cribley,
State Director.

[FR Doc. 2015-29699 Filed 11-19-15; 8:45 am]

BILLING CODE 4310-JA-P